DEPARTMENT OF DEFENSE

DEPARTMENT OF HOUSING AND URBAN DEVELOPMENT

Department of the Air Force

Notice of Intent to Prepare a Joint Environmental Impact Statement and Environmental Impact Report

AGENCIES: Department of the Air Force, Department of Housing and Urban Development, City of Hawthorne, and the City of El Segundo.

ACTION: Notice of intent to prepare a joint Environmental Impact Statement and Environmental Impact Report for the proposed Los Angeles Air Force Base land conveyance, construction and development.

SUMMARY: The U.S. Department of the Air Force, lead agency under the National Environmental Policy Act (NEPA) and the City of El Segundo, California, lead agency under the California Environmental Quality Act (CEQA), announce their intent to prepare a joint draft Environmental Impact Statement (EIS)/Environmental Impact Report (EIR) for the proposed land conveyance, construction, development and consolidation of the Los Angeles Air Force Base (LAAFB).

The Air Force will have primary responsibility to ensure that the joint EIS/EIR complies with NEPA (42 U.S.C. 4321 et. seq.); the Council on Environmental Quality (CEQ) regulations that implement the procedural provisions of NEPA (40 CFR parts 1500-1508); and the Air Force procedures for implementing NEPA, Air Force Instruction (AFI) 32-7061, Environmental Impact Analysis Process (EIAP), as promulgated at 32 Code of Federal Regulations part 989.

The City of Hawthorne, California will be a cooperating agency for the joint EIS/EIR, having responsibility for any applications concerning Federal-funding programs administered by HUD, assume responsibility for environmental review, decision-making and actions that would otherwise apply to HUD under NEPA in accordance with 24 CFR part 58. The City of El Segundo shall serve as the agency point of contact for receipt of all comments pertaining to the EIS/EIR and will have primary responsibility for EIS/EIR compliance with CEQA, in accordance with the California Public Resources Code (PRC 21000 et seq.) and the California Code of Regulations (14 CCR 15000 et seq.).

FOR FURTHER INFORMATION CONTACT: Air Force: Mr. Jason Taylor, Environmental Specialist, 61 ABG/CEZV, 2420 Vela Way, Suite 1467, Los Angeles Air Force Base, El Segundo, CA, 90245-4659; fax (310) 363-1595.

City of El Segundo: Mr. Paul Garry, Senior Planner, City of El Segundo, Department of Community, Economic, and Development Services, 350 Main Street., El Segundo, California, 90245 (310) 524-2342.

SUPPLEMENTARY INFORMATION: Section 2861 of the Floyd D. Spence National Defense Authorization Act for Fiscal Year 2001, as amended by section 2841 of the Bob Stump National Defense Authorization Act for Fiscal Year 2003, authorizes the conveyance of parcels of real property at Los Angeles Air Force Base in exchange for the design and construction of facilities meeting seismic and safety design standards for Los Angeles, California, to consolidate mission and support functions at the base. A draft Environmental Assessment (EA) was prepared in September 2002 in accordance with the NEPA and the CEQ regulations implementing NEPA to analyze the potential environmental consequences of the land conveyance and seismic upgrade. As a result of public comments in received on the EA in October 2002, the Air Force has entered into an agreement with the Cities of El Segundo and Hawthorne, California to revise the proposed action and to prepare a joint EIS/EIR on the project.

The proposed action would include, among other components, the construction of 560,000 square feet of administrative and special use facilities for the Air Force on Area B (located within the City of El Segundo); non-Air Force development of 975 condominium residential units on Area A (City of El Segundo annex to City of Hawthorne pending), and non-Air Force development of 333 condominium residential units on the Lawndale Annex (City of Hawthorne). No changes would occur to the Sun Valley property located in the City of Los Angeles.

Alternatives include a reduced density alternative at the conveyed, redeveloped properties; a retail-commercial alternative at the conveyed, redeveloped properties; a renovation alternative, using traditional Military Construction (MILCON) funding to implement the land conveyance and development project; and the no-action alternative, under which the Air Force will continue to operate current facilities with limited MILCON and facility alteration/repair projects.

A scoping meeting will be held to identify significant issues to be addressed in the EIS/EIR. To ensure that a full range of issues related to this proposed action are identified and addressed, scoping comments are invited from all interested parties. A public scoping meeting is scheduled to be held, as follows:

Date: Thursday, January 30, 2003.

Time: 8 a.m.

Place: City Council Chambers, 350 Main Street, El Segundo, California.

Written comments pertaining to the proposed action will be accepted throughout the EIS/EIR planning process. However, to ensure proper consideration in preparation of the draft EIR/EIS, scoping comments should be received within 15 days of the publication of this notice. The draft EIS/EIR is planned for publication and distribution in February 2003. Copies may be obtained, upon request, from the Air Force point of contact.

Pamela D. Fitzgerald,
Air Force Federal Register Liaison Officer.

[FR Doc. 03-1797 Filed 1-27-03; 8:45 am]

BILLING CODE 5001-05-P